DEPARTMENT OF TRANSPORTATION

Federal Aviation Administration

Notice of Availability of Final Environmental Assessment with a Finding of No Significant Impact and Record of Decision (FONSI/ROD) for the Midwest Airspace Enhancement (MASE) Project

AGENCY: Federal Aviation Administration, DOT.

ACTION: Notice of Availability of the MASE Final Environmental Assessment with FONSI/ROD.

SUMMARY: The Federal Aviation Administration (FAA), Central Terminal Service Area, is issuing this notice to advise the public of the availability of the Final Environmental Assessment Final (EA) and FONSI/ROD for the MASE project.

FOR FURTHER INFORMATION CONTACT: Ms. Annette Davis, Federal Aviation Administration, Central Terminal Operations Service Area, 2300 East Devon Avenue, Des Plaines, Illinois 60018, (847) 294-8091 or MASE Web site, http:/www.faa.gov/ats/nar/mase.htm.

SUPPLEMENTARY INFORMATION: The MASE project would implement new en route and terminal airspace procedures to increase efficiency and enhance safety of aircraft movements in the airspace overlying and beyond the Cleveland and Detroit Metropolitan areas. The MASE airspace redesign would integrate high-altitude and en route airspace changes with low-altitude terminal airspace changes to provide for a more seamless operation between the two airspace areas. In addition, MASE would allow for more efficient utilization of the runway configurations at Detroit Metropolitan Wayne County and Cleveland Hopkins International airports. Overall, MASE would maintain safety while reducing delays, accommodating growth, and incorporating new technology.

* * * * *

Issued in Des Plaines, Illinois, on January 5, 2006.
Nancy B. Kort,
Area Director, Central Terminal Operations Service Area.

[FR Doc. 06-492 Filed 1-18-06; 8:45 am]

BILLING CODE 4910-13-M